DEPARTMENT OF THE INTERIOR

Fish and Wildlife Service

[FWS-R8-ES-2019-N111; FXES11140000-189-FF08E00000]

Proposed Upper Santa Ana River Habitat Conservation Plan and Draft Environmental Impact Statement; San Bernardino County, CA

AGENCY: Fish and Wildlife Service, Interior.

ACTION: Notice of availability; receipt of permit applications and request for public comments; notice of public meetings.

SUMMARY: We, the U.S. Fish and Wildlife Service, have received applications from the San Bernardino Valley Water Conservation District (District) and the San Bernardino County Flood Control District (SBCFCD) for incidental take permits under the Endangered Species Act. We advise the public of the availability of an accompanying proposed habitat conservation plan (HCP), which covers two federally listed animal species and other covered species, and a draft environmental impact statement (EIS), for public review and comment. The HCP covers activities for water conservation, aggregate mining, recreation, flood control and other public services in San Bernardino County, California. The draft EIS is a joint Environmental Impact Statement/Supplemental Environmental Impact Report (EIS/SEIR). The draft SEIR portion of the joint document was prepared by the District in compliance with the California Environmental Quality Act.

DATES:

Public Comments: We will receive public comments on the HCP and DEIS/SEIR until January 23, 2020. Comments received or postmarked after this date will be considered to the extent practicable.

Meetings: We will conduct two public meetings, both on January 9, 2020. Both meetings are intended to cover the same material. The first meeting is 2-4 p.m., and the second is 6:30-9:30 p.m.

Public Accommodations: We are committed to providing meeting access for all participants. Please direct all requests for sign language interpreting services, closed captioning, or other accommodation to Karin Cleary-Rose, TTY 800-877-8339 by close of business on January 6, 2020.

ADDRESSES: Obtaining Documents: You may obtain the documents by the following methods.

• Internet: https://www.fws.gov/carlsbad/HCPs/HCP_Docs.html or https://sbvwcd.org.

• Public Libraries: Copies are available for public viewing at the following libraries:

○ A.K. Smiley Library at 125 West Vine St., Redlands, CA.

○ Highland Branch Library, 7863 Central Ave., Highland, CA.

• San Bernardino Water Conservation District: Copies are available for public viewing at the San Bernardino Valley Water Conservation District, 1630 W Redlands Blvd., Ste. A, Redlands, CA. Digital copies of the documents will be provided on CD at the District office upon request.

Submitting Comments: You may submit comments by one of the following methods. Please include your contact information.

• Email: fw8psfwocomments@fws.gov.

• U.S. Mail or Hand-Delivery: Karin Cleary-Rose, Santa Ana River Wash Project, Palm Springs Fish and Wildlife Service Office, 777 E. Tahquitz Canyon Way, Suite 208, Palm Springs, CA 92262.

Meetings: Our scheduled public meetings will take place at the San Bernardino Valley Water Conservation District Office, 1630 West Redlands Avenue, Redlands, CA 92373. See DATES and FOR FURTHER INFORMATION CONTACT.

FOR FURTHER INFORMATION CONTACT: Contact either of the two following individuals for more information:

• Karin Cleary-Rose, USFWS, by mail at Palm Springs Fish and Wildlife Office, 777 East Tahquitz Canyon Way, Suite 208, Palm Springs, CA 92262; or via email to karin_cleary-rose@fws.gov; or

• Daniel Cozad, San Bernardino Valley Water Conservation District, by mail at 1630 W Redlands Blvd., Ste. A, Redlands, CA 92373; or via email to dcozad@sbvwcd.org.

TTY users can contact the above individuals by calling 800-877-8339.

SUPPLEMENTARY INFORMATION: The San Bernardino Valley Water Conservation District (District, applicant), and the San Bernardino County Flood Control District (SBCFCD, applicant) have each applied to the U.S. Fish and Wildlife Service (Service) for an incidental take permit under section 10 (a)(1)(B) of the Endangered Species Act, as amended (ESA; 16 U.S.C. 1531 et seq.). We, the Service, advise the public of the availability of the applicants' proposed habitat conservation plan (HCP), which covers two federally listed animal species and other covered species, and the Service-prepared draft environmental impact statement (EIS), for public review and comment. The HCP covers activities for water conservation, aggregate mining, recreation, flood control and other public services in San Bernardino County, California. The draft EIS is a joint Environmental Impact Statement/Supplemental Environmental Impact Report (EIS/SEIR). The draft SEIR portion of the joint document was prepared by the District in compliance with the California Environmental Quality Act. The draft EIS/SEIR evaluates the direct, indirect, and cumulative impacts of several alternatives for the Service's issuance of ESA permits to applicants. The project area lies within San Bernardino County, primarily in the cities of Highland and Redlands, as well as within the unincorporated County area. The plan area encompasses approximately 4,892 acres. Pursuant to the National Environmental Policy Act (NEPA; 42 U.S.C. 4321 et seq.), we advise the public of the availability of our draft environmental impact statement (EIS), which analyzes several alternatives related to the Service's decision whether to issue incidental take permits in response to the District's and the SBCFCD's applications.

Background

Section 9 of the ESA and Federal regulations pursuant to section 4(d) of the ESA prohibit the “take” of fish and wildlife species federally listed as endangered or threatened without special exemption. Take of federally listed fish or wildlife is defined under the ESA as to harass, harm, pursue, hunt, shoot, wound, kill, trap, capture, or collect listed species, or attempt to engage in such conduct (16 U.S.C. 1538). “Harm” includes significant habitat modification or degradation that actually kills or injures listed wildlife by significantly impairing essential behavioral patterns, including breeding, feeding, and sheltering (50 CFR 17.3). Under limited circumstances, we may issue permits to authorize take that is incidental to and not the purpose of otherwise lawful activities.

Habitat Conservation Plan Covered Activities

The Service is considering the issuance of incidental take permits consistent with the Upper Santa Ana River Wash HCP. The HCP covers two types of activities in the Upper Santa Ana River Wash Plan project area:

• Activities related to the operations and maintenance of existing facilities or land uses already in operation in the Wash, covering an area totaling 166.9 acres; and

• Expansion or enhancement of facilities planned for the Wash area, totaling 634.1 acres.

Habitat Conservation Plan Covered Species

The proposed incidental take permits would cover five species. Incidental take authorization would be provided under the permits for the wildlife species; the plant species are included in recognition of the conservation measures provided under the HCP and to provide No Surprises assurances to the applicants for the covered plants under 50 CFR 17.22(b)(5). The applicant's HCP includes the following species:

Species | Federal listing status
Coastal California gnatcatcher (Polioptila californica californica) | Threatened.
San Bernardino kangaroo rat (Dipodomys merriami parvus) | Endangered.
Cactus wren (Campylorhynchus brunneicapillus) | Not listed.
Santa Ana River woolly-star (Eriastrum densifolium ssp. sanctorum) | Endangered.
Slender-horned spineflower (Dodecahema leptoceras) | Endangered.

The HCP proposes conservation measures considered necessary to minimize and mitigate, to the maximum extent practicable, the impacts of the incidental taking of covered species in the HCP.

National Environmental Policy Act Compliance

The draft EIS/SEIR addresses the Federal and local actions in approving and implementing the project, and the proposed issuance of incidental take permits consistent with the HCP. On March 3, 2015 (80 FR 11463), the Bureau of Land Management (BLM) and the U.S Fish and Wildlife Serve (FWS) published a notice of intent to prepare an environmental impact statement, as Federal co-leads, and later hosted two scoping meetings to solicit public comments on the preparation of an Environmental Impact Statement (EIS) to analyze the proposed land exchanges with the San Bernardino Valley Water Conservation District (District) and issuance of incidental take permits by FWS. The land exchange would include up to 400 acres of BLM-managed public lands within the Upper Santa Ana River Wash Area.

On March 12, 2019, the President signed the Natural Resources Management Act (S. 47), which included specific guidelines directing the land exchanges between the BLM and the Conservation District (section 1003). As a result, the BLM no longer has a discretionary action on the land exchange and is withdrawing as the co-lead in the preparation of the EIS. The BLM will now serve as a cooperating agency in the development of this EIS. The BLM is required to implement actions in the legislation to initiate/facilitate the land exchanges, but is no longer required to conduct an analysis under the National Environmental Policy Act.

The FWS will continue to serve as the Federal lead agency in the development of the EIS/SEIR, in collaboration with the District, a political subdivision of the State of California. The District is the lead agency for the SEIR, under the California Environmental Quality Act.

Environmental Impact Statement

The EIS evaluates three alternatives in detail:

“No action” alternative: Current management activities would be assumed to continue. The Service would not issue Federal ESA permits to the applicants.

Proposed action: Consistent with the proposed Upper Santa Ana River Wash Plan HCP, the Service issues 30-year ITPs to the applicants for the five covered species, under section 10(a)(1)(B) of the ESA.

“Action” alternative 1: The Service would issuance 30-year ITPs to the applicants for four covered species (excluding cactus wren) with reduced conservation, consistent with the 2008 Land Management Plan prepared by the District.

Public Review

Any comments we receive will become part of the decision record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Authority

We provide this notice under section 10(c) of the ESA (16 U.S.C. 1531 et seq.) and its implementing regulations (50 CFR 17.22), and NEPA (42 U.S.C. 4321 et seq.) and NEPA implementing regulations (40 CFR 1506.6).

Michael Fris,
Assistant Regional Director, Pacific Southwest Region, U.S. Fish and Wildlife Service, Sacramento, California.

[FR Doc. 2019-26478 Filed 12-6-19; 8:45 am]

BILLING CODE 4333-15-P